DEPARTMENT OF THE INTERIOR

National Park Service

[NPS-WASO-NAGPRA-NPS0033674; PPWOCRADN0-PCU00RP14.R50000]

Notice of Intent To Repatriate Cultural Items: Oakland Museum of California, Oakland, CA

AGENCY: National Park Service, Interior.

ACTION: Notice.

SUMMARY: The Oakland Museum of California (Oakland Museum), in consultation with the appropriate Indian Tribes or Native Hawaiian organizations, has determined that the cultural item listed in this notice meets the definition of an object of cultural patrimony. Lineal descendants or representatives of any Indian Tribe or Native Hawaiian organization not identified in this notice that wish to claim this cultural item should submit a written request to the Oakland Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Oakland Museum at the address in this notice by May 6, 2022.

FOR FURTHER INFORMATION CONTACT: Anna Bunting, Registrar, Oakland Museum of California, 1000 Oak Street, Oakland, CA 94607, telephone (510) 318-8493, email nagpra@museumca.org.

SUPPLEMENTARY INFORMATION: Notice is here given in accordance with the Native American Graves Protection and Repatriation Act (NAGPRA), 25 U.S.C. 3005, of the intent to repatriate a cultural item under the control of the Oakland Museum of California, Oakland, CA, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Between 1897 and 1928, one cultural item was removed from Wrangell, AK, by Fred W. Carlyon, a local shop owner, and his sister, Anna Vaughn. Carlyon and Vaughn collected the Aankháawu Woodazkaa, or Speaker's Staff, during their time in Wrangell in the late 19th and early 20th centuries. Subsequently, the Speaker's Staff passed from the collectors to Miss Vaughn's daughter, Dorothy K. Haberman. In 1959, Mrs. Haberman donated the staff to the Oakland Museum of California (catalog number H4153.2). The object of cultural patrimony is an Aankháawu Woodazkaa, or Speaker's Staff. It is approximately 58 inches long and is made of cedar. The body displays carved animal figures. The object is topped with a bird form, below which is a human figure with a potlatch hat and abalone inlay for the eyes.

The area of Wrangell, AK, where this object originated, is the home of the Shx'at Kwaan (Wrangell People), who collectively are also known as the Shx'at Kwaan Federation and the Tlingit people of Southeastern Alaska. Today, the Shx'at Kwaan (Wrangell People) is represented by the Central Council of the Tlingit & Haida Indian Tribes.

The Aankháawu Woodazkaa, or Speaker's Staff, is identified in museum records as Kadashan's Staff. Chief Kadashan was a leader of the Kaasx 'agweidi, the Tlingit Raven clan in Wrangell, AK. Information provided during tribal consultation, as well as museum records and academic sources, including a historic photograph of the staff while it was still among the Tlingit in Wrangell, all support a Tlingit cultural affiliation for this object. According to information provided during tribal consultation, the Aankháawu Woodazkaa, or Speaker's Staff, is a particularly important item of chiefly regalia, as it was only brought out on occasions of great importance to command, unify, and represent clan members. Additional information provided during tribal consultation also indicates that the Aankháawu Woodazkaa, or Speaker's Staff, is a clan-owned object brought out in ceremonies by a clan-appointed caretaker, and that it could not be alienated without the consent of the entire clan.

Determinations Made by the Oakland Museum of California

Officials of the Oakland Museum of California have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Central Council of the Tlingit & Haida Indian Tribes.

Additional Requestors and Disposition

Lineal descendants or representatives of any Indian Tribe or Native Hawaiian organization not identified in this notice that wish to claim this cultural item should submit a written request with information in support of the claim to Anna Bunting, Registrar, Oakland Museum of California, 1000 Oak Street, Oakland, CA 94607, telephone (510) 318-8493, email nagpra@museumca.org, by May 6, 2022. After that date, if no additional claimants have come forward, transfer of control of the object of cultural patrimony to the Central Council of the Tlingit & Haida Indian Tribes may proceed.

The Oakland Museum of California is responsible for notifying the Central Council of the Tlingit & Haida Indian Tribes that this notice has been published.

Dated: March 30, 2022.
Melanie O'Brien,
Manager, National NAGPRA Program.

[FR Doc. 2022-07170 Filed 4-5-22; 8:45 am]

BILLING CODE 4312-52-P